DEPARTMENT OF COMMERCE

Bureau of Industry and Security

15 CFR Part 772

Definition of Terms

CFR Correction

In Title 15 of the Code of Federal Regulations, Parts 300 to 799, revised as of January 1, 2012, in § 772.1, make the following corrections:

1. On page 635, remove the term “Ancillary cryptography”,

2. On page 642, add the term “Explosives”,

3. On page 650, add the term “Nuclear reactor”,

4. On page 652, remove the Note in the definition of “Peak power”, and

5. On page 652, add the term “Port of export”.

The text to be added—in alphabetical order—is set forth below:

772.1 Definitions of terms as used in the Export Administration Regulations (EAR).

* * * * *

Explosives. (Cat 1)—see Annex “List of Explosives” located at the end of Category 1 of Supplement No. 1 to Part 774 “Commerce Control List”.

* * * * *

Nuclear reactor. (Cat 0 and 2) includes the items within or attached directly to the reactor vessel, the equipment which controls the level of power in the core, and the components which normally contain, come into direct contact with or control the primary coolant of the reactor core.

* * * * *

Port of export. The port where the cargo to be shipped abroad is laden aboard the exporting carrier. It includes, in the case of an export by mail, the place of mailing.

* * * * *

[FR Doc. 2012-17297 Filed 7-13-12; 8:45 am]

BILLING CODE 1505-01-D